DEPARTMENT OF HOMELAND SECURITY

Coast Guard

33 CFR Part 147

[Docket Number USCG-2024-0134]

RIN 1625-AA00

Safety Zone; Revolution Wind Farm Project Area, Outer Continental Shelf, Lease OCS-A 0486, Offshore Rhode Island, Atlantic Ocean

AGENCY: Coast Guard, DHS.

ACTION: Temporary final rule.

SUMMARY: The Coast Guard is establishing 67 temporary safety zones around the construction of each facility during the development of the Revolution Wind Farm project area within federal waters on the Outer Continental Shelf, specifically in the Bureau of Ocean Energy Management Renewable Energy Lease Area OCS-A 0486, approximately 15 nautical miles offshore southeast of Point Judith, Rhode Island. This action protects life, property, and the environment during construction of each facility from June 1, 2024, to May 31, 2027. When enforced, only attending vessels and vessels with authorization are permitted to enter or remain in the temporary safety zones.

DATES: This rule is effective from June 1, 2024, through 11:59 p.m. on May 31, 2027.

ADDRESSES: To view documents mentioned in this preamble as being available in the docket, go to https://www.regulations.gov, type USCG-2024-0134 in the search box and click “Search.” Next, in the Document Type column, select “Supporting & Related Material.”

FOR FURTHER INFORMATION CONTACT: If you have questions about this rulemaking, call or email Mr. Craig Lapiejko, Waterways Management, at Coast Guard First District, telephone 617-603-8592, email craig.d.lapiejko@uscg.mil.

SUPPLEMENTARY INFORMATION:

I. Table of Abbreviations

BOEM Bureau of Ocean Energy Management

CFR Code of Federal Regulations

DD Degrees Decimal

DHS Department of Homeland Security

FR Federal Register

NPRM Notice of Proposed Rulemaking

OCS Outer Continental Shelf

OSS Offshore Substation

NAD 83 North American Datum of 1983

NM Nautical Mile

RWF Revolution Wind Farm

§ Section

U.S.C. United States Code

WTG Wind Turbine Generator

LNM Local Notice to Mariners

BNM Broadcast Notice to Mariners

II. Background, Purpose, and Legal Basis

On February 2, 2024, Orsted, an offshore wind farm developer, notified the Coast Guard that they plan to begin construction of the Revolution Wind facilities in the Revolution Wind Farm (RWF) project area within federal waters on the Outer Continental Shelf (OCS), specifically in the Bureau of Ocean Energy Management (BOEM) Renewable Energy Lease Area OCS-A 0486, approximately 15 nautical miles (NM) offshore southeast of Point Judith, Rhode Island, 32 NM southeast of the Connecticut coast and 12 NM southwest of Martha's Vineyard, Massachusetts in June 2024.

After determining that establishment of safety zones was necessary to provide for the safety of life, property, and the environment during the anticipated construction of the structures, on March 21, 2024, the Coast Guard published a notice of proposed rulemaking (NPRM) titled “Safety Zone; Revolution Wind Farm Project Area, Outer Continental Shelf, Lease OCS-A 0486, Offshore Rhode Island, Atlantic Ocean” (89 FR 20150). There we explained the basis for the NPRM and invited comments on our proposed regulatory action related to the establishment of safety zones around the construction of 65 Wind Turbine Generators (WTG) and two Offshore Sub Stations (OSS) located in the RWF project area. Eighty-six comments were received during the comment period that ended April 22, 2024.

Under 5 U.S.C. 553(d)(3), the Coast Guard finds that good cause exists for making this rule effective less than 30 days after publication in the Federal Register. The comment period for the NPRM associated with the RWF project area ended on April 22, 2024, and construction for the project has already begun. Thus, there is insufficient time to allow for 30-days before the rule becomes effective. Delaying the effective date of this rule would be contrary to public interest because immediate action is needed to respond to the potential safety risks associated with the extremely complex and unusually hazardous construction of these OCS facilities including hydraulic pile driving hammer operations, heavy lift operations, overhead cutting operations, potential falling debris, increased vessel traffic, and stationary barges in close proximity to the facilities and each other, occurring at times within 12 NM of shore.

Based on these circumstances, the First Coast Guard District Commander has determined that establishment of 67 safety zones through rulemaking is warranted to ensure the safety of life, property, and the environment within a 500-meter radius of each of the 67 facilities during their construction.

III. Legal Authority and Need for Rule

The Coast Guard is issuing this rule under the authority provided in 14 U.S.C. 544, 43 U.S.C. 1333, and Department of Homeland Security (DHS) Delegation No. 00170.1, Revision No. 01.3. As an implementing regulation of this authority, 33 CFR part 147 permits the establishment of safety zones for non-mineral energy resource permanent or temporary structures located on the OCS for the purpose of protecting life and property on the facilities, appurtenances and attending vessels, and on the adjacent waters within the safety zone (see 33 CFR 147.10). Accordingly, a safety zone established under 33 CFR part 147 may also include provisions to restrict, prevent, or control certain activities, including access by vessels or persons to maintain safety of life, property, and the environment.

IV. Discussion of Comments, Changes, and the Rule

As noted above, the Coast Guard received 86 public comments on the NPRM published March 21, 2024. Three of the 86 comments were supportive of the 67 temporary 500-meter safety zones while the remaining 83 were opposed. One commenter who supported the rulemaking, provided three recommendations. Another supporter of our proposed rule sought clarification of the rule in their comment. A third supporter of the rule requested the Coast Guard consider conducting a radar interference and additional studies. Those opposing the NPRM communicated this opposition relative to wind farm construction in general and not necessarily regarding our proposed rule and the enforcement of safety zones around this construction. Six commenters expressed specific opposition to taxpayer dollars being used for the enforcement of safety zones around the construction of private facilities and stated that the developer should be held responsible for the financial burden. Three commenters expressed their concerns with our review of the Unfunded Mandates Reform Act of 1995 (2 U.S.C. 1531-1538) without any further specificity on their contentions. One commenter questioned the need for safety zones for this particular offshore construction project as compared to offshore drilling platforms in the Gulf of Mexico. We provide a detailed discussion below in response to each comment.

One commenter who agreed with our proposed rule to create 67 temporary 500-meter safety zones during construction of these OCS facilities to protect life, property, and the environment, and supported the proposed rule, offered three recommendations for the Coast Guard to consider.

First, the commenter expressed their concern that a 500-meter safety zone was insufficient and recommended we extend the safety zones 500-meters by originating the measurement from the outer perimeter of attending, primary construction vessels once those vessels have achieved stationary position to conduct construction activities vice from the center point of the construction site. For clarity and consistency for mariners working in and transiting the area, we believe that enforcement of the 500-meter zone from the center point of construction as a fixed geographic position is most appropriate for this offshore construction project. Using the center point of construction to base the location of the safety zone ensures there is a balance between ensuring safety and reducing impact on vessel transit.

Second, the commenter recommended we clarify the term “local officer” as used in the definition of “designated representative” and expand the definition of “designated representative” to include an appropriate employee or contractor of Orsted to facilitate navigation around and through the safety zones and enhance effective communications when safety zones are enforced. We agree with the recommendation to clarify term “local officer” and will add the following definition in the regulatory text: the term “local officer” as used in the definition “designated representative” for this rulemaking means “any officer, agent, or employee of a unit of local government authorized by law or by a local government agency to engage in or supervise the prevention, detection, investigation, or prosecution of any violation of criminal law.” However, the Coast Guard does not agree with the commenter's other recommendation to expand the definition of “designated representative” in our proposed rule to include employees of Orsted, or their contractors. The Coast Guard finds no compelling need to broaden the definitional reach of the term “designated representative” or the authority to permit passage through and around the enforced safety zone based on the particular details of this offshore construction project, to include, the short duration of the enforcement period (possibly lasting less than one week depending on weather and other factors), the reduced vessel traffic in areas of construction, and the types of larger vessels that are most likely to navigate in the vicinity of the safety zones (commercial shipping, fishing, larger recreational vessels, and tugs with tows). The details of this offshore construction project suggest that those currently included in the definition of “designated representative” can properly ensure enforcement and administration of the rulemaking. Moreover, maintaining designation to Coast Guard Patrol Commander, including a Coast Guard coxswain, petty officer, or other officer operating a Coast Guard vessel and a Federal, State, and local officer designated by or assisting the First Coast Guard District Commander in the enforcement of the safety zones will ensure consistent application.

Finally, the commenter suggested the Coast Guard not specify the duration that a safety zone may be enforced during active construction to accommodate delays in construction due to weather and other factors. In a previous similar offshore construction project, the developer estimated a 48-hour total active construction time, which translated to an estimated 48-hour enforcement period for each phase of the project. For this offshore construction project, the developer finds the 48-hour timeframe to be unrealistic, however. We do believe that providing an estimated time frame of safety zone enforcement is important to help the mariner understand any impacts on their intend voyage and alter course as needed and agree with the commenter that delays due to weather and other factors may extend the original period of construction. Accordingly, the Coast Guard finds that an enforcement period correlated to a regularly updated date range published in the weekly Local Notice to Mariners (LNM) is the best option because it is easily interpreted, reliable, and enforceable risk mitigation. Therefore, for this project and for voyage planning purposes, mariners should understand that it is possible that the enforcement period for a safety zone cited in the LNM could last for the entirety of the week due to the uncertainty of the active construction period. If active construction at a particular facility is completed before publishing of the next weekly LNM, a Broadcast Notice to Mariners (BNM) will broadcast the suspension of safety zone enforcement. As stated in our proposed rule, the Coast Guard's intention in enforcing safety zones during active construction and suspending enforcement when there is no construction is to reduce the regulatory burden on the mariner.

One commenter supported our proposed rule to create 67 temporary 500-meter safety zones during construction of these OCS facilities to protect life, property, and the environment, but requested additional clarification to the rule. The commenter specifically asked, “how many safety zones would be active at any given time?” The Coast Guard's response is, the 67 temporary safety zones could be enforced individually or simultaneously at several locations for a period lasting up to one week as construction progresses throughout the RWF project area. The commenter also asked, “will there be a website to check the open or closed zones, which is updated regularly?” In response, the Coast Guard will make notice of each enforcement period via the LNM and issue a BNM via marine channel 16 (VHF-FM) as soon as practicable in response to an emergency or hazardous condition. The First Coast Guard District LNM can be found at: http://www.navcen.uscg.gov. The commenter also asked, “since each zone is ¼ mile and the pilings are 1 mile apart, there's a ½ mile corridor between each and all, correct?” In response, this is generally correct but not exact and in some instances the distance may be considerably less than a ½ nm. We interpret the commenter's question to be aimed at determining if a safety zone is being enforced at adjacent facilities simultaneously what would be the available sea lane for a vessel to transit safely between the safety zones. In response to this interpretation, when enforced, there will be a 500-meter regulated area around the construction of each facility. The mariner may consider each facility to be roughly built, based on guidelines, at approximately 1 nm spacing. In addition, the mariner should account for the amount of spacing between facilities base on the vessel's direction of travel and the orientation of the facilities to each other and the vessel. The Coast Guard recommends that mariners transiting in the vicinity of the wind energy construction areas to maintain a proper watch and assess all risk factors during its voyage. Lastly, the commenter asked, “has the company provided a construction timeline for the work, perhaps by name (AE06 for example) and sector?” Additional information about the construction process of the RWF project area can be found at https://www.boem.gov/renewable-energy/state-activities/revolution-wind or at https://revolution-wind.com/resources-and-faqs/construction-updates.

One commenter agreed with our proposed rule to create 67 temporary 500-meter safety zones during construction of these OCS facilities to protect life, property, and the environment but, requested the Coast Guard consider conducting a radar interference and additional studies. The commenter also stated that the economic impacts of the RWF have not been analyzed by BOEM correctly and therefore the Coast Guard is now required to conduct the analysis.

The commenter expressed their concerns about possible radar interference and the Coast Guard's ability to operate and conduct search and rescue within RWF and requested the Coast Guard conduct additional studies and modeling analysis as a part of this rule. The Coast Guard acknowledges these concern and requests. However, the purpose of this rulemaking is to establish 67 temporary safety zones around the construction of each facility during the development of the RWF project area, which is unrelated to the commenter's concerns. Also, the First Coast Guard District has factored applicable statutes and regulations into this rule, as cited in Section III.

The same commenter also stated that the economic impacts of the RWF have not been analyzed by BOEM as part of the FEIS correctly and therefore this analysis is now required to be conducted be the Coast Guard. While this rule may affect some owners or operators of small entities, the Coast Guard believes these safety zones will have a minimal economic impact because the safety zones are temporarily enforced, allow for deviation requests, and do not significantly impact transits. Vessels will only be prohibited from the regulated zone during periods of actual construction activity. The Coast Guard anticipates the enforcement period at each location to last anywhere from 48-hours to less than one week. Vessel traffic will be able to pass safely around each safety zone using an alternate route. Use of an alternate route will likely cause minimal delay for vessels in reaching their destination depending on other traffic in the area and vessel speeds. Vessels will be permitted to request deviations from this rule to transit through a safety zone. Such requests would be considered on a case-by-case basis and may be authorized by the First Coast Guard District Commander.

Six commenters expressed specific opposition to taxpayer dollars being used for the enforcement of safety zones around the construction of private facilities and stated that the developer should be held responsible for the financial burden. The Coast Guard acknowledges these comments and concerns. Coast Guard authorities direct us to assess the potential safety risks associated with such complex and unusually hazardous construction projects, whether publicly or privately funded, and require establishment of the safety zones to ensure the safety of life, property, and the environment when such hazards exist.

Three commenters expressed their concerns with our review generally of the Unfunded Mandates Reform Act of 1995 (2 U.S.C. 1531-1538) which requires Federal agencies to assess the effects of their discretionary regulatory actions. In particular, the Act addresses actions that may result in the expenditure by a State, local, or tribal government, in the aggregate, or by the private sector of $100,000,000 (adjusted for inflation) or more in any one year. Without having a more specific understanding of the commenters concerns to comment on, the Coast Guard maintains the belief that this rule would not result in any expenditure by a State, local, or tribal government, in the aggregate, or by the private sector of $100,000,000 (adjusted for inflation) or more in any one year.

One commenter questioned the need for safety zones for this offshore construction project as compared to offshore drilling in the Gulf of Mexico. The Coast Guard acknowledges this comment but disagrees. Although there are some similarities between offshore wind facilities and offshore drilling platforms, the Coast Guard finds significant differences exist, warranting different considerations in the assessment for safety zones. The Coast Guard would also like to stress that this rule focuses on the enforcement of safety zones during the initial active construction of the facility, which will cease upon completion and installation, not the establishment of permanent safety zones. As we stated in our NPRM, the extremely complex offshore construction of these OCS facilities presents many unusually hazardous conditions including hydraulic pile driving hammer operations, heavy lift operations, overhead cutting operations, potential falling debris, increased vessel traffic, and stationary barges in close proximity to the facilities and each other. Based on these circumstances, the First Coast Guard District Commander has determined that establishment of 67 temporary safety zones through rulemaking is warranted to ensure the safety of life, property, and the environment within a 500-meter radius of each of the 67 facilities during their construction. Additionally, the Coast Guard is establishing these 67 safety zones to be temporary in nature and only effective and enforceable during periods of active construction through May 31, 2027. If the project is completed before May 31, 2027, enforcement of the safety zones will be suspended, and notice given via LNM. Any desire by the Coast Guard to create permanent safety zones would require addition notice and comment rulemaking.

After considering the comments discussed above, the Coast Guard determined that no additional changes other than adding a definition for “local officer” should be made to the regulatory text based on these comments. As written, the Coast Guard believes that the rule ensures consistency, sufficient notice, and improved safety while minimizing impact on vessel transit.

There is one change to the regulatory text of this rule from the NPRM. As discussed in comments above, we are adding a definition to the term “local officer”. The term “local officer” as used in the definition “designated representative” for this rulemaking means “any officer, agent, or employee of a unit of local government authorized by law or by a local government agency to engage in or supervise the prevention, detection, investigation, or prosecution of any violation of criminal law.”

This rule establishes 67 temporary 500-meter safety zones around the construction of 65 WTGs and two OSS on the OCS from June 1, 2024, through 11:59 p.m. on May 31, 2024.

The 67 temporary safety zones could be enforced individually or simultaneously at several locations for a period lasting up to one week as construction progresses throughout the RWF project area. The Coast Guard will make notice of each enforcement period via the LNM and issue a BNM via marine channel 16 (VHF-FM) as soon as practicable in response to an emergency or hazardous condition. The Coast Guard is publishing this rulemaking to be effective, and enforceable, through May 31, 2027, to encompass any construction delays due to weather or other unforeseen circumstances. If the project is completed before May 31, 2027, enforcement of the safety zones will be suspended, and notice given via Local Notice to Mariners.

Additional information about the construction process of the RWF project area can be found at https://www.boem.gov/renewable-energy/state-activities/revolution-wind.

The 67 temporary 500-meter safety zones around the construction of 65 WTGs and two OSS are in the RWF project area, specifically in the BOEM Renewable Energy Lease Area OCS-A 0486, approximately 15 nautical NM offshore southeast of Point Judith, Rhode Island, 32 NM southeast of the Connecticut coast and 12 NM southwest of Martha's Vineyard, Massachusetts.

The positions of each individual safety zone in this rulemaking will be referred to using a unique alpha-numeric naming convention outlined in the “Rhode Island and Massachusetts Structure Labeling Plot (West)”.¹

¹ The Rhode Island and Massachusetts Structure Labeling Plot (West) is an attachment to the Conditions of Construction and Operations Plan Approval Lease Number OCS-A 0517 (boem.gov) and can be found at https://www.boem.gov/sites/default/files/documents/renewable-energy/state-activities/SFWF-COP-Terms-and-Conditions.pdf.

Aligning with authorities under 33 CFR 147.15, the safety zones will include the area within 500-meters of the center point of the positions provided in the table below expressed in Degrees (°) Minutes (′) (DM) based on North American Datum 1983 (NAD 83).

Table 1 to Paragraph (a)
Name | Facility Type | Latitude | Longitude
AE06 | WTG | 41°13.555′ N | 71°10.367′ W
AE07 | WTG | 41°13.575′ N | 71°09.050′ W
AE08 | WTG | 41°13.603′ N | 71°07.719′ W
AE09 | WTG | 41°13.632′ N | 71°06.402′ W
AE10 | WTG | 41°13.652′ N | 71°05.081′ W
AE11 | WTG | 41°13.676′ N | 71°03.763′ W
AF05 | WTG | 41°12.528′ N | 71°11.647′ W
AF06 | WTG | 41°12.554′ N | 71°10.336′ W
AF08 | OSS | 41°12.607′ N | 71°07.702′ W
AF09 | WTG | 41°12.628′ N | 71°06.375′ W
AF10 | WTG | 41°12.652′ N | 71°05.051′ W
AF11 | WTG | 41°12.676′ N | 71°03.738′ W
AG04 | WTG | 41°11.504′ N | 71°12.944′ W
AG05 | WTG | 41°11.529′ N | 71°11.625′ W
AG06 | WTG | 41°11.554′ N | 71°10.302′ W
AG07 | WTG | 41°11.579′ N | 71°08.984′ W
AG08 | WTG | 41°11.606′ N | 71°07.660′ W
AG09 | WTG | 41°11.625′ N | 71°06.359′ W
AH04 | WTG | 41°10.503′ N | 71°12.921′ W
AH05 | WTG | 41°10.529′ N | 71°11.594′ W
AH06 | WTG | 41°10.548′ N | 71°10.276′ W
AH07 | WTG | 41°10.586′ N | 71°08.946′ W
AH08 | WTG | 41°10.610′ N | 71°07.622′ W
AH09 | WTG | 41°10.632′ N | 71°06.307′ W
AJ02 | WTG | 41°09.452′ N | 71°15.530′ W
AJ03 | WTG | 41°09.470′ N | 71°14.213′ W
AJ04 | WTG | 41°09.502′ N | 71°12.896′ W
AJ05 | WTG | 41°09.528′ N | 71°11.478′ W
AJ06 | WTG | 41°09.563′ N | 71°10.243′ W
AJ07 | WTG | 41°09.578′ N | 71°08.919′ W
AJ08 | WTG | 41°09.604′ N | 71°07.612′ W
AJ09 | WTG | 41°09.633′ N | 71°06.319′ W
AJ10 | WTG | 41°09.638′ N | 71°04.949′ W
AJ11 | OSS | 41°09.675′ N | 71°03.617′ W
AJ12 | WTG | 41°09.695′ N | 71°02.297′ W
AJ13 | WTG | 41°09.737′ N | 71°00.954′ W
AJ14 | WTG | 41°09.748′ N | 70°59.654′ W
AJ15 | WTG | 41°09.757′ N | 70°58.367′ W
AK10 | WTG | 41°08.654′ N | 71°04.935′ W
AK12 | WTG | 41°08.699′ N | 71°02.260′ W
AL10 | WTG | 41°07.652′ N | 71°04.840′ W
AL11 | WTG | 41°07.666′ N | 71°03.554′ W
AL12 | WTG | 41°07.652′ N | 71°02.224′ W
AL18 | WTG | 41°07.834′ N | 70°54.300′ W
AL19 | WTG | 41°07.856′ N | 70°52.968′ W
AL20 | WTG | 41°07.876′ N | 70°51.651′ W
AL21 | WTG | 41°07.887′ N | 70°50.387′ W
AM11 | WTG | 41°06.666′ N | 71°03.547′ W
AM12 | WTG | 41°06.680′ N | 71°02.252′ W
AM14 | WTG | 41°06.705′ N | 70°59.567′ W
AM17 | WTG | 41°06.796′ N | 70°55.614′ W
AM18 | WTG | 41°06.833′ N | 70°54.272′ W
AM19 | WTG | 41°06.862′ N | 70°52.937′ W
AM20 | WTG | 41°06.877′ N | 70°51.626′ W
AM21 | WTG | 41°06.904′ N | 70°50.325′ W
AN11 | WTG | 41°05.666′ N | 71°03.499′ W
AN12 | WTG | 41°05.703′ N | 71°02.118′ W
AN13 | WTG | 41°05.675′ N | 71°00.836′ W
AN14 | WTG | 41°05.801′ N | 70°59.538′ W
AN15 | WTG | 41°05.760′ N | 70°58.223′ W
AN16 | WTG | 41°05.792′ N | 70°56.911′ W
AP11 | WTG | 41°04.671′ N | 71°03.482′ W
AP12 | WTG | 41°04.697′ N | 71°02.144′ W
AP13 | WTG | 41°04.731′ N | 71°00.873′ W
AP14 | WTG | 41°04.746′ N | 70°59.423′ W
AP15 | WTG | 41°04.766′ N | 70°58.180′ W
AP16 | WTG | 41°04.788′ N | 70°56.858′ W

When enforced, no unauthorized vessel or person would be permitted to enter the safety zone without obtaining permission from the First Coast Guard District Commander or a designated representative. Requests for entry into the safety zone would be considered and reviewed on a case-by-case basis. Persons or vessels seeking to enter the safety zone must request authorization from the First Coast Guard District Commander or designated representative via VHF-FM channel 16 or by phone at 866-842-1560 (First Coast Guard District Command Center). If permission is granted, all persons and vessels shall comply with the instructions of the First Coast Guard District Commander or designated representative.

The regulatory text appears at the end of this document.

IV. Regulatory Analyses

We developed this rule after considering numerous statutes and Executive Orders related to rulemaking. A summary of our analyses based on these statutes and Executive Orders follows.

A. Regulatory Planning and Review

Executive Orders 12866 and 13563 direct agencies to assess the costs and benefits of available regulatory alternatives and, if regulation is necessary, to select regulatory approaches that maximize net benefits. This TFR has not been designated a “significant regulatory action,” under Executive Order 12866. Accordingly, the TFR has not been reviewed by the Office of Management and Budget (OMB).

Aligning with 33 CFR 147.15, the safety zones established would extend to a maximum distance of 500-meters around the OCS facility measured from its center point. Vessel traffic would be able to safely transit around the safety zones, which would impact a small, designated area in the Atlantic Ocean, without significant impediment to their voyage. This safety zone would provide for the safety of life, property, and the environment during the construction of each structure, in accordance with Coast Guard maritime safety missions.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule would not have a significant economic impact on a substantial number of small entities.

This rule may affect owners or operators of vessels intending to transit or anchor in the RWF, some of which might be small entities. However, these safety zones would not have a significant economic impact on a substantial number of these entities because they are temporarily enforced, allow for deviation requests, and do not impact vessel transit significantly. Regarding the enforcement period, although these safety zones would be in effect from June 1, 2024, through May 31, 2027, vessels would only be prohibited from the regulated zone during periods of actual construction activity in correspondence to the period of enforcement. We expect the enforcement period at each location to last approximately 48-hours to one week, as construction progresses throughout the RFW project area. Additionally, vessel traffic could pass safely around each safety zone using an alternate route. Use of an alternate route likely will cause minimal delay for the vessel in reaching their destination depending on other traffic in the area and vessel speed. Vessels would also be able to request deviation from this rule to transit through a safety zone. Such requests would be considered on a case by-case basis and may be authorized by the First Coast Guard District Commander or a designated representative. For these reasons, the Coast Guard expects any impact of this rulemaking establishing a temporary safety zone around these OCS facilities to be minimal and have no significant economic impact on small entities.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section. The Coast Guard will not retaliate against small entities that question or complain about this rule or any policy or action of the Coast Guard.

C. Collection of Information

This rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This rule involves the establishment of a safety zone around an OCS facility to protect life, property, and the marine environment. It is categorically excluded from further review under paragraph L60 of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 147

Continental shelf, Marine safety, Navigation (waters).

For the reasons discussed in the preamble, the Coast Guard is amending 33 CFR part 147 as follows:

PART 147—SAFETY ZONES

1. The authority citation for part 147 continues to read as follows:

Authority: 14 U.S.C. 544; 43 U.S.C. 1333; 33 CFR 1.05-1; Department of Homeland Security Delegation No. 00170.1, Revision No. 01.3.

2. Add § 147.T01-0134 to read as follows:

§ 147.T01-0134 Safety Zone; Revolution Wind Farm Project Area, Outer Continental Shelf, Lease OCS-A 0486, Offshore Rhode Island, Atlantic Ocean.

(a) Description. The area within 500-meters of the center point of the positions provided in table 1 is a safety zone:

Table 1 to Paragraph (a)
Name | Facility type | Latitude | Longitude
AE06 | WTG | 41°13.555′ N | 71°10.367′ W
AE07 | WTG | 41°13.575′ N | 71°09.050′ W
AE08 | WTG | 41°13.603′ N | 71°07.719′ W
AE09 | WTG | 41°13.632′ N | 71°06.402′ W
AE10 | WTG | 41°13.652′ N | 71°05.081′ W
AE11 | WTG | 41°13.676′ N | 71°03.763′ W
AF05 | WTG | 41°12.528′ N | 71°11.647′ W
AF06 | WTG | 41°12.554′ N | 71°10.336′ W
AF08 | OSS | 41°12.607′ N | 71°07.702′ W
AF09 | WTG | 41°12.628′ N | 71°06.375′ W
AF10 | WTG | 41°12.652′ N | 71°05.051′ W
AF11 | WTG | 41°12.676′ N | 71°03.738′ W
AG04 | WTG | 41°11.504′ N | 71°12.944′ W
AG05 | WTG | 41°11.529′ N | 71°11.625′ W
AG06 | WTG | 41°11.554′ N | 71°10.302′ W
AG07 | WTG | 41°11.579′ N | 71°08.984′ W
AG08 | WTG | 41°11.606′ N | 71°07.660′ W
AG09 | WTG | 41°11.625′ N | 71°06.359′ W
AH04 | WTG | 41°10.503′ N | 71°12.921′ W
AH05 | WTG | 41°10.529′ N | 71°11.594′ W
AH06 | WTG | 41°10.548′ N | 71°10.276′ W
AH07 | WTG | 41°10.586′ N | 71°08.946′ W
AH08 | WTG | 41°10.610′ N | 71°07.622′ W
AH09 | WTG | 41°10.632′ N | 71°06.307′ W
AJ02 | WTG | 41°09.452′ N | 71°15.530′ W
AJ03 | WTG | 41°09.470′ N | 71°14.213′ W
AJ04 | WTG | 41°09.502′ N | 71°12.896′ W
AJ05 | WTG | 41°09.528′ N | 71°11.478′ W
AJ06 | WTG | 41°09.563′ N | 71°10.243′ W
AJ07 | WTG | 41°09.578′ N | 71°08.919′ W
AJ08 | WTG | 41°09.604′ N | 71°07.612′ W
AJ09 | WTG | 41°09.633′ N | 71°06.319′ W
AJ10 | WTG | 41°09.638′ N | 71°04.949′ W
AJ11 | OSS | 41°09.675′ N | 71°03.617′ W
AJ12 | WTG | 41°09.695′ N | 71°02.297′ W
AJ13 | WTG | 41°09.737′ N | 71°00.954′ W
AJ14 | WTG | 41°09.748′ N | 70°59.654′ W
AJ15 | WTG | 41°09.757′ N | 70°58.367′ W
AK10 | WTG | 41°08.654′ N | 71°04.935′ W
AK12 | WTG | 41°08.699′ N | 71°02.260′ W
AL10 | WTG | 41°07.652′ N | 71°04.840′ W
AL11 | WTG | 41°07.666′ N | 71°03.554′ W
AL12 | WTG | 41°07.652′ N | 71°02.224′ W
AL18 | WTG | 41°07.834′ N | 70°54.300′ W
AL19 | WTG | 41°07.856′ N | 70°52.968′ W
AL20 | WTG | 41°07.876′ N | 70°51.651′ W
AL21 | WTG | 41°07.887′ N | 70°50.387′ W
AM11 | WTG | 41°06.666′ N | 71°03.547′ W
AM12 | WTG | 41°06.680′ N | 71°02.252′ W
AM14 | WTG | 41°06.705′ N | 70°59.567′ W
AM17 | WTG | 41°06.796′ N | 70°55.614′ W
AM18 | WTG | 41°06.833′ N | 70°54.272′ W
AM19 | WTG | 41°06.862′ N | 70°52.937′ W
AM20 | WTG | 41°06.877′ N | 70°51.626′ W
AM21 | WTG | 41°06.904′ N | 70°50.325′ W
AN11 | WTG | 41°05.666′ N | 71°03.499′ W
AN12 | WTG | 41°05.703′ N | 71°02.118′ W
AN13 | WTG | 41°05.675′ N | 71°00.836′ W
AN14 | WTG | 41°05.801′ N | 70°59.538′ W
AN15 | WTG | 41°05.760′ N | 70°58.223′ W
AN16 | WTG | 41°05.792′ N | 70°56.911′ W
AP11 | WTG | 41°04.671′ N | 71°03.482′ W
AP12 | WTG | 41°04.697′ N | 71°02.144′ W
AP13 | WTG | 41°04.731′ N | 71°00.873′ W
AP14 | WTG | 41°04.746′ N | 70°59.423′ W
AP15 | WTG | 41°04.766′ N | 70°58.180′ W
AP16 | WTG | 41°04.788′ N | 70°56.858′ W

(b) Definitions. As used in this section, designated representative means a Coast Guard Patrol Commander, including a Coast Guard coxswain, petty officer, or other officer operating a Coast Guard vessel and a Federal, State, and local officer designated by or assisting the First Coast Guard District Commander in the enforcement of the safety zones. Local officer means any officer, agent, or employee of a unit of local government authorized by law or by a local government agency to engage in or supervise the prevention, detection, investigation, or prosecution of any violation of criminal law.

(c) Regulations. No vessel may enter or remain in this safety zone except for the following:

(1) An attending vessel as defined in 33 CFR 147.20;

(2) A vessel authorized by the First Coast Guard District Commander or a designated representative.

(d) Request for Permission. Persons or vessels seeking to enter the safety zone must request authorization from the First Coast Guard District Commander or a designated representative. If permission is granted, all persons and vessels must comply with lawful instructions of the First Coast Guard District Commander or designated representative via VHF-FM channel 16 or by phone at 866-842-1560 (First Coast Guard District Command Center).

(e) Effective and enforcement periods. This section will be effective from June 1, 2024, through 11:59 p.m. on May 31, 2027. But it will only be enforced during active construction or other instances which may cause a hazard to navigation deemed necessary by the First Coast Guard District Commander. The First Coast Guard District Commander will make notification of the exact dates and times in advance of each enforcement period for the locations above in paragraph (a) of this section to the local maritime community through the Local Notice to Mariners and will issue a Broadcast Notice to Mariners via marine channel 16 (VHF-FM) as soon as practicable in response to an emergency. If the project is completed before May 31, 2027, enforcement of the safety zones will be suspended, and notice given via Local Notice to Mariners. The First Coast Guard District Local Notice to Mariners can be found at: https://www.navcen.uscg.gov.

Dated: May 08, 2024.
J.W. Mauger,
Rear Admiral, U.S. Coast Guard, Commander, First Coast Guard District.

[FR Doc. 2024-10743 Filed 5-15-24; 8:45 am]

BILLING CODE 9110-04-P